DEPARTMENT OF DEFENSE

Department of the Army, Corps of Engineers

Notice of Intent To Prepare an Integrated Feasibility Report & Draft Environmental Impact Statement for the Yuba River, California, Ecosystem Restoration Feasibility Study

AGENCY: Department of the Army, U.S. Army Corps of Engineers; DOD.

ACTION: Notice of intent.

SUMMARY: The U.S. Army Corps of Engineers, Sacramento District (Corps), intends to prepare an integrated Feasibility Report & Draft Environmental Impact Statement (DEIS) for the Yuba River Ecosystem Restoration Feasibility Study. The Corps will serve as the lead agency for compliance with the National Environmental Policy Act. The Yuba County Water Agency (YCWA) will serve as the non-federal sponsor. The feasibility study is evaluating opportunities for ecosystem restoration in the Yuba River watershed, located in portions of Sierra, Placer, Yuba, and Nevada counties.

DATES: Written comments should be submitted by November 9, 2015.

ADDRESSES: Written comments should be sent to U.S. Army Corps of Engineers, Sacramento District, Attn: Michael Fong, CESPK-PD-RP, 1325 J Street, Sacramento, CA 95814-2922.

FOR FURTHER INFORMATION CONTACT: Questions about the feasibility study and the DEIS may be addressed to U.S. Army Corps of Engineers, Sacramento District, Attn: Michael Fong, CESPK-PD-RP, 1325 J Street, Sacramento, CA, 95814-2922 or submitted by email to Michael.R.Fong@usace.army.mil. Requests to be placed on the mailing list should also be sent to this address.

SUPPLEMENTARY INFORMATION:

1. Study Purpose. The Corps, in cooperation with YCWA, is conducting a cost-shared feasibility study to identify and respond to problems and opportunities associated with ecosystem restoration in the Yuba River watershed. The authority to study the Sacramento River Basin, including the Yuba River watershed, for flood control and allied purposes, was granted in the Rivers and Harbors Act of 1962, Public Law 87-874, Section 209. A reconnaissance study of ecosystem restoration opportunities in the Yuba River watershed was conducted in 2014 under the authorization of the Energy and Water Development Appropriations Act of 2014, Division D of Public Law 113-76, the Consolidated Appropriations Act, 2014. The Civil Works study process provides a systematic and rational framework for developing and analyzing alternative plans. This feasibility study will be conducted under the SMART Planning framework, an efficient, risk-informed process.

2. Study Area. The Yuba River Watershed is located in northern California on the western slopes of the Sierra Nevada Mountain Range. The watershed encompasses 1,340 square miles in portions of Sierra, Placer, Yuba, and Nevada counties. The Yuba River is a tributary of the Feather River which, in turn, flows into the Sacramento River near the town of Verona, California. The study area begins in the city of Marysville and extends upstream approximately 90 miles, past Sierra City, California, in Sierra County.

The Yuba River flows through forest, foothill chaparral, and agricultural lands. Levees are absent from most of its course except for near the river's confluence with the Feather River. At that point, the Yuba River is bounded by setback levees for approximately six miles.

The primary watercourses of the upper Yuba River watershed are the South, Middle, and North Yuba rivers. The Middle Yuba River flows into the North Yuba River and together they are referred to as the upper Yuba River. Current conditions in the Yuba River watershed are largely defined by the legacy of historic gold mining and presence of dams.

3. Scoping Process. A series of public Scoping meetings will be held in October and November 2015 to present information and receive comments from the public. These meetings are intended to initiate the process to involve concerned individuals, non-governmental organizations, interested parties, and local, State, and Federal agencies. Public Scoping meetings will be held as follows:

Meeting #1—Wednesday, October 28, 2015, 1:00 p.m.-3:00 p.m. at John E. Moss Federal Building Stanford Room (650 Capitol Mall, Sacramento, CA 95814).

Meeting #2—Thursday, October 29, 2015, 5:00 p.m.-7:00 p.m. at Nevada County Library Community Room (980 Helling Way, Nevada City, CA 95959).

Meeting #3—Wednesday, November 4, 2015, 5:00 p.m.-7:00 p.m. at Yuba County Government Center Marysville and Wheatland Conference Room (915 8th Street, Marysville, CA 95901).

Significant issues to be analyzed in depth in the integrated Feasibility Report & DEIS include effects on hydraulics, wetlands and other waters of the U.S., vegetation and wildlife resources, special-status species, aesthetics, cultural resources, recreation, land use, fisheries, water quality, air quality, noise, transportation, socioeconomics, and cumulative effects of related projects in the study area.

The Corps will coordinate with State and Federal resource agencies in order to comply with all pertinent environmental laws, regulations, and policies. Moreover, the Corps will coordinate with effected Native American Tribes to address their concerns and to ensure compliance with all applicable Federal statutes, executive orders, and Corps policies.

4. Availability. The integrated feasibility report & DEIS is scheduled to be available for public review and comment in December 2016. A 45-day public review period will be provided for individuals and agencies to review and comment on the DEIS. All interested parties are encouraged to respond to this notice and provide a current address if they wish to be notified of the DEIS circulation.

Dated: October 1, 2015.
Michael J. Farrell,
COL, U.S. Army, District Commander .

[FR Doc. 2015-25855 Filed 10-8-15; 8:45 am]

BILLING CODE 3720-58-P